DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before February 18, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on January 8, 2025.
Donald P. Burger,
Chief, General Approvals and Permits Branch.

Special Permits Data—Granted
Application No. | Applicant | Regulation(s) affected | Nature of the special permits thereof
7694-M | Applied Pressure Vessels, Inc | 173.302a, 175.3 | To modify the special permit to authorize compressed oxygen.
10232-M | Illinois Tool Works Inc | 173.304(d), 173.167, 173.306(i) | To modify the special permit to authorize an additional hazardous material and the removal of a hazardous material.
11156-M | Austin Powder Company | 173.62(c), 173.212(b) | To modify the special permit to authorize an additional authorized packaging.
11598-M | Metalcraft, Inc | 173.301(f), 173.304a(a)(2) | To modify the special permit to authorize an additional cylinder.
12102-M | Veolia ES Technical Solutions LLC | 173.124(a)(2)(iii)(D) | To modify the special permit to authorize an additional hazardous material.
14154-M | Mission Systems Orchard Park Inc | 180.205, 173.302a(a)(1), 173.304a(a)(1) | To modify the special permit to authorize additional Division 2.2 gases.
16279-M | Daniels Sharpsmart, Inc | 173.196(a) | To modify the special permit to authorize the transportation in commerce of Lassa fever virus.
20333-M | Antonov,dp | 172.101(j), 172.203(a), 172.301(c), 173.27(b)(2), 175.30(a)(1) | To modify the special permit to authorize an additional hazardous material.
20418-M | Hanwha Cimarron LLC | 173.302(a), 173.304 | To modify the special permit to authorize an extended service life program.
20511-M | ARMOTECH s.r.o | 173.302(a)(1), 173.302(f)(1), 173.302(f)(2) | To modify the special permit to authorize a new cylinder design.
20910-M | Cellblock FCS, LLC | 172.200, 172.300, 172.303(a), 172.400, 172.500, 172.600, 172.700(a), 173.185(f) | To modify the special permit to authorize a package marked with the UN3480 and UN3481 identification numbers when the package may not contain the identified hazardous material.
20952-M | Capella Space Corp | 173.185(a)(1), 173.301(f)(1), 173.302a(a)(1), 178.35(e) | To modify the special permit to increase the weight restriction as limited by ICAO-TI Special Provision A88.
21377 | Proterra Inc | 172.101(j) | To modify the special permit to authorize additional lithium-ion batteries.
21470-M | Honeywell Intellectual Properties Inc | 173.302a(a)(1) | To modify the special permit to allow shipment of pressure vessels in a temperature controlled vehicle to ensure the vessel pressure remains below 10,000 psig.
21690-N | Berlin Packaging LLC | 173.185(b)(3)(i), 173.185(b)(3)(iii)(A), 173.185(b)(3)(iii)(B), 173.185(b)(6), 173.185(e)(1), 173.185(e)(4), 173.185(f)(1), 173.185(f)(2), 173.185(f)(3), 173.185(f)(3)(iii) | To authorize the manufacture, mark, sale, and use of specially designed packaging for the transportation in commerce of single and multiple lithium batteries, prototype and low production lithium batteries, and damaged, defective, or recalled lithium batteries.
21771-N | Berlin Packaging LLC | 173.158(e) | To authorize the manufacture, mark, sale and use of UN specification packagings for the transport of nitric acid of less than 70% concentration where the glass inner packagings are not packed in tightly-closed, intermediate packagings and cushioned with absorbent material.
21772-N | Enervenue, Inc | 172.400, 172.300, 173.302(a) | To authorize the transportation in commerce of UN1049, hydrogen, compressed in non-DOT specification cylinders.
21784-N | Daicel Safety Systems (Jiangsu) Co., Ltd | 173.301(a)(1), 178.65(b), 178.65(c)(3), 178.65(e)(1), 178.65(f)(1), 178.65(g), 178.65(i) | To modify the special permit to authorize cargo vessel and to remove the restriction in paragraph 8.l.
21788-N | Zhejiang Dongcheng Printing Industry Co., Ltd | 173.304a(a)(1), 173.304a(d)(3)(ii) | To authorize the manufacture, mark, sale, and use of a non-DOT specification non-refillable inside metal container conforming with all regulations applicable to a DOT specification 2P inside container, except as specified herein, for the transportation in commerce of the hazardous materials authorized by this special permit.
21800-N | Greif, Inc | 178.509(b)(1), 178.522(b)(1), 178.707(c)(3)(iii) | To authorize the manufacture, mark, sale, and use of 1H1 plastic drums, 1H2 plastic drums, 31HA1 intermediate bulk containers, 3H1 jerricans, 3H2 jerricans, and 6HA1 composite drums that have been manufactured using recycled resin.
21863-N | Munro & Associates, Inc | 172.301(c), 173.220(a) | To authorize the transportation in commerce of a battery-powered vehicle containing a damaged lithium ion battery.
21869-N | Van Troxel International Inc | 172.400, 172.500, 172.200, 172.300, 173.302a, 173.304a | To authorize the transportation in commerce of non-compliant inner containers that have not been appropriately marked.
21878-N | Call2Recycle, Inc | 173.185(f) | To authorize the transportation of damaged lithium ion batteries in response to a thermal runaway incident that occurred at the Camino De La Fuente energy storage system in Otay Mesa, California.
21890-N | Blue Origin Florida, LLC | 173.302(a)(1), 173.302(b), 173.201 | To authorize post-recovery transportation in commerce of Blue Origin Florida's New Glenn 1st Stage Launch Vehicle.
21897-N | SkyTaxi Sp Z.O.O | 172.101(j)(1), 173.27(b)(2), 175.30(a)(1) | To authorize the transportation in commerce of the Division 1.1F explosives identified in paragraph 6. aboard cargo-only aircraft.
21904-N | SkyTaxi Sp Z.O.O | 172.101(j)(1), 173.27(b)(2), 175.30(a)(1) | To authorize the transportation in commerce of the Division 1.1E explosives identified in paragraph 6. aboard cargo-only aircraft.
21906-N | Environmental Protection Agency | 171-180 | To authorize the transportation in commerce of hazardous materials in support of recovery and relief operations from and within Hurricane Helene disaster areas under conditions that may not meet the Hazardous Materials Regulations.
21914-N | Tennessee Valley Authority | 171-180 | To authorize the transportation in commerce of hazardous materials in support of recovery and relief operations from and within Tropical Storm Helene Disaster areas under conditions that may not meet the Hazardous Materials Regulations.

Special Permits Data—Denied
Application No. | Applicant | Regulation(s) affected | Nature of the special permits thereof
21885-N | Ecotec Manufacturing, Inc | 171.8, 171.23(b), 173.304a(a)(1) | To authorize the transportation in commerce of certain Division 2.1 gases in a DOT 2Q container.
210905-N | Day & Zimmermann Lone Star LLC | 172.320(a), 173.27(b)(2), 173.27(b)(3), 173.51(a), 173.51, 173.56(a)(2), 173.57, 173.58, 173.60(b)(14), 173.62(c)(5) | To authorize the transportation of Class 1 explosives to Ukraine by cargo aircraft only.

Special Permits Data—Withdrawn
Application No. | Applicant | Regulation(s) affected | Nature of the special permits thereof
21820-N | Reynolds Systems, Inc | 172.320, 173.54(a), 173.56(b), 173.57, 173.58 | To authorize the transportation in commerce of detonators that have not been examined or tested.
21837-N | Reckitt Benckiser LLC | 172.301(c), 172.315, 173.185(c)(3) | To authorize the transportation in commerce of unmarked packages containing limited quantities of hazardous materials or smaller lithium cells or batteries.
21853-N | Riegel USA Inc | 172.301 | To authorize the transportation in commerce of butane contained in 2P inner receptacles when classified as “UN2037 Gas cartridges, (flammable) without a release device, non-refillable“.
21856-N | Lynden Air Cargo, LLC | 172.101(j) | To authorize the transportation in commerce of certain cryogenic liquids by air in quantities that exceed the limits specified in Column 9B of the 172.101 Hazardous Materials Table.
21882-N | Capitol Helicopters, Inc | 172.200, 172.204(c)(3), 172.301(c), 172.101(j), 173.27(b)(2), 175.75, 175.30(a)(1) | To authorize the transportation in commerce of certain hazardous materials by 14 CFR Part 133 cargo-only aircraft (rotorcraft external load operations) transporting hazardous materials attached to or suspended from the aircraft, and Part 135, as applicable, in remote areas of the US only, without being subject to certain hazard communication requirements, quantity limitations and certain loading and stowage requirements.
21891-N | Medical Systems of Denver, Inc | 173.196(a) | To authorize the transportation in commerce of medical waste for disposal.
21900-N | Phi Aviation, LLC | 172.101(j) | To authorize the transportation in commerce of certain hazardous materials which exceed the authorized quantity limitations for passenger-carrying aircraft
21913-N | Unipart North America Limited | 172.101(j) | To authorize the transportation in commerce of lithium batteries exceeding 35 kg by cargo-only aircraft.

[FR Doc. 2025-00860 Filed 1-15-25; 8:45 am]

BILLING CODE P